DEPARTMENT OF COMMERCE

National Oceanic and Atmospheric Administration

RIN 0648-XF803

Western Pacific Fishery Management Council; Public Meetings; Cancellation

AGENCY: National Marine Fisheries Service (NMFS), National Oceanic and Atmospheric Administration (NOAA), Commerce.

ACTION: Notice of cancellation of public meeting.

SUMMARY: The Western Pacific Fishery Management Council (Council) has cancelled its 172nd meeting that was scheduled between 2 p.m. and 5 p.m. (Hawaii Standard Time (HST)) and between 1 p.m. and 4 p.m. (American Samoa Standard Time (ASST)) on Wednesday, November 15, 2017 and between 10 a.m. and 1 p.m. (Marianas Standard Time (MST)) on Thursday, November 16, 2017.

FOR FURTHER INFORMATION CONTACT: Kitty M. Simonds, Executive Director; telephone: (808) 522-8220.

SUPPLEMENTARY INFORMATION: The initial notice for this public meeting published in the Federal Register on October 31, 2017 (82 FR 50411). The purpose of the meeting was to consider amendments to the swordfish trip limit for the American Samoa longline fishery. This action will be rescheduled for a later regularly scheduled meeting and announced in the Federal Register.

Authority: 16 U.S.C. 1801 et seq.

Dated: November 1, 2017.
Tracey L. Thompson,
Acting Deputy Director, Office of Sustainable Fisheries, National Marine Fisheries Service.

[FR Doc. 2017-24062 Filed 11-3-17; 8:45 am]

BILLING CODE 3510-22-P